DEPARTMENT OF TRANSPORTATION

Federal Aviation Administration

[Summary Notice No. PE-2002-27]

Petition for Exemption; Dispositions of Petitions Issued

AGENCY: Federal Aviation Administration (FAA), DOT.

ACTION: Notice of dispositions of prior petitions.

SUMMARY: Pursuant to FAA's rulemaking provisions governing the application, processing, and dispositions for exemption part 11 of Title 14, Code of Federal Regulations (14 CFR), this notice contains the dispositions of certain petitions previously received. The purpose of this notice is to improve the public's awareness of, and participation in, this aspect of FAA's regulatory activities. Neither publication of this notice nor the inclusion or ommission of information in the summary is intended to affect the legal status of any petition or its final disposition.

FOR FURTHER INFORMATION CONTACT: Vanessa Wilkins, Office of Rulemaking (ARM-1), Federal Aviation Administration, 800 Independence Avenue, SW., Washington, DC 20591. Tel. (202) 267-8029.

This notice is published pursuant to 14 CFR 11.85 and 11.91.

Issued in Washington, DC, on March 29, 2002.
Donald P. Byrne,
Assistant Chief Counsel for Regulations.

Dispositions of Petitions

Docket No.: FAA-2002-11487.

Petitioner: Bombardier Aerospace, Learjet, Inc.

Section of 14 CFR Affected: 14 CFR 145.45(f).

Description of Relief Sought/Disposition: To permit Learjet to assign a copy of its repair station inspection procedures manual (IPM) to key individuals within departments and make the IPM available to all other repair station personnel rather then give a copy of the manual to each of its supervisory and inspection personnel.

Grant, 03/26/2002, Exemption No. 7240A.

Docket No.: FAA-2002-11562

Petitioner: United Airlines, Inc.

Section of 14 CFR Affected: 14 CFR 121.697(a)(3), (b), (c), and (d) and 121.709(b)(3).

Description of Relief Sought/Disposition: To permit Untied Airlines to use computerized signatures to satisfy the airworthiness release signature requirements of part 121 in lieu of physical signatures.

Grant, 03/26/2002, Exemption No. 5151G.

[FR Doc. 02-8150 Filed 4-3-02; 8:45 am]

BILLING CODE 4910-13-M